DEPARTMENT OF COMMERCE

International Trade Administration

[A-570-898]

Chlorinated Isocyanurates From the People's Republic of China: Extension of Time Limit for Final Results of Antidumping Duty New Shipper Review

AGENCY: Import Administration, International Trade Administration, Department of Commerce.

DATES: Effective Date: February 1, 2012.

FOR FURTHER INFORMATION CONTACT: Jun Jack Zhao, AD/CVD Operations, Office 6, Import Administration, International Trade Administration, U.S. Department of Commerce, 14th Street and Constitution Avenue NW., Washington, DC 20230; telephone: (202) 482-1396.

Background

On November 7, 2011, the Department of Commerce (the Department) issued the preliminary rescission of the new shipper review under the antidumping duty order on chlorinated isocyanurates from the People's Republic of China for Heze Huayi Chemical Co. Ltd. (Heze Huayi) covering the period June 1, 2010, through December 31, 2010. See Chlorinated Isocyanurates from the People's Republic of China: Preliminary Rescission of Antidumping Duty New Shipper Review, 76 FR 70705 (November 15, 2011). The final results of review are currently due on February 6, 2012.¹

¹ Because the calculated final results signature date falls on Sunday, February 5, 2012, the signature date for the final results is moved to the next business day, February 6, 2012. See Notice of Clarification: Application of “Next Business Day” Rule for Administrative Determination Deadlines Pursuant to the Tariff Act of 1930, As Amended, 70 FR 24533 (May 10, 2005).

Statutory Time Limits

Section 751(a)(2)(B)(iv) of the Tariff Act of 1930, as amended (the Act), and 19 CFR 351.214(i)(1) provide that the Department will issue the final results of a new shipper review within 90 days after the date on which the preliminary results were issued. However, if the Department concludes that a new shipper review is extraordinarily complicated, the Department may extend the 90-day period to 150 days. See 19 CFR 351.214(i)(2).

Extension of Time Limit for Final Results

The Department determines that this new shipper review is extraordinarily complicated because of the additional unreported sales to the United States during the period of review by Heze Huayi. On December 16, 2011, Heze Huayi submitted an extensive case brief regarding these sales and the Department's preliminary decision to rescind the review. On December 22, 2011, Clearon Corp. and Occidental Chemical Corporation, Petitioners in the original investigation, submitted an extensive rebuttal brief. The issues raised in the case and rebuttal briefs regarding these unreported sales and how they should be evaluated in the context of a new shipper review are complex and multifaceted. Therefore, in accordance with section 751(a)(2)(B)(iv) of the Act and 19 CFR 351.214(i)(2), the Department finds that this case is extraordinarily complicated and is extending the time limit for the final results from 90 days to 150 days. Accordingly, the final results will now be due no later than April 5, 2012.

We are issuing and publishing this notice in accordance with sections 751(a)(2)(B)(iv) and 777(i)(I) of the Act.

Dated: January 25, 2012.
Christian Marsh,
Deputy Assistant Secretary for Antidumping and Countervailing Duty Operations.

[FR Doc. 2012-2236 Filed 1-31-12; 8:45 am]

BILLING CODE 3510-DS-P